DEPARTMENT OF THE TREASURY

Office of Foreign Assets Control

Designation of One Individual Pursuant to Executive Order 13338

AGENCY: Office of Foreign Assets Control, Treasury.

ACTION: Notice.

SUMMARY: The Treasury Department's Office of Foreign Assets Control (“OFAC”) is publishing the name of one newly designated individual whose property and interests in property are blocked pursuant to Executive Order 13338 of May 11, 2004, “Blocking Property of Certain Persons and Prohibiting the Export of Certain Goods to Syria.”

DATES: The designation by the Secretary of the Treasury of the individual identified in this notice pursuant to Executive Order 13338 is effective on Monday, November 5, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treas.gov/ofac) or via facsimile through a 24-hour fax-on-demand service, tel.: 202/622-0077.

Background

On May 11, 2004, the President issued Executive Order 13338 (the “Order”) pursuant to the International Emergency Economic Powers Act, 50 U.S.C. 1701, et seq., the National Emergencies Act, 50 U.S.C. 1601, et seq., the Syria Accountability and Lebanese Sovereignty Restoration Act of 2003, Public Law 108-175, and section 301 of title 3, United States Code. In the Order, the President declared a national emergency to address the threat posed by the actions of the Government of Syria in supporting terrorism, continuing its occupation of Lebanon, pursuing weapons of mass destruction and missile programs, and undermining the United States and international efforts with respect to the stabilization and reconstruction of Iraq.

Section 3 of the Order blocks, with certain exceptions, all property and interests in property of the following persons, that are in the United States, that hereafter come within the United States, or that are or hereafter come within the possession or control of United States persons: persons who are determined by the Secretary of the Treasury, in consultation with the Secretary of State, (1) to be or to have been directing or otherwise significantly contributing to the Government of Syria's provision of safe haven to or other support for any person whose property or interests in property are blocked under the United States law for terrorism-related reasons; (2) to be or to have been directing or otherwise significantly contributing to the Government of Syria's military or security presence in Lebanon; (3) to be or to have been directing or otherwise significantly contributing to the Government of Syria's pursuit of the development and production of chemical, biological, or nuclear weapons and medium- and long-range surface-to-surface missiles; (4) to be or to have been directing or otherwise significantly contributing to any steps taken by the Government of Syria to undermine the United States and international efforts with respect to the stabilization and reconstruction of Iraq; or (5) to be owned or controlled by, or acting or purporting to act for or on behalf of, directly or indirectly, any person whose property or interests in property are blocked pursuant to the Order.

On Monday, November 5, 2007, the Secretary of the Treasury, in consultation with the Secretary of State, designated, pursuant to one or more of the criteria set forth in the Order, one individual whose property and interests in property are blocked pursuant to Executive Order 13338.

The designee is as follows:

KHAYRBIK, Muhammad Nasif (a.k.a. KHAIRBEK, Mohammed Nassif; a.k.a. KHAYR-BAYK, Muhammad Nasif; a.k.a. KHEIRBEK, Mohammad Nasif), Damascus, Syria; DOB 5 Apr 1937; Syrian Deputy Vice President for Security Affairs; Major General.

Dated: November 14, 2007.
Adam J. Szubin,
Director, Office of Foreign Assets Control.

[FR Doc. E7-22874 Filed 11-21-07; 8:45 am]

BILLING CODE 4811-45-P